DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Puget Sound Recreational Shellfish Harvesting Survey.

OMB Control Number: None.

Form Number(s): NA.

Type of Request: Regular submission (request for a new information collection).

Number of Respondents: 1,974

Average Hours per Response: Initial telephone contact, 3 minutes; survey, 30 minutes.

Burden Hours: 538.

Needs and Uses: This request is for a new collection of information.

The Puget Sound estuary provides one of the most valuable shellfish habitats in the Pacific Northwest. Shellfish are important economically, ecologically, and socially to the Puget Sound basin. While shellfish bed closures have decreased area-wide, persistent closures continue in certain locations, affecting local growers and restricting commercial and recreational harvest opportunities. The Puget Sound Partnership (Partnership), a Washington State agency established to facilitate the conservation and restoration of Puget Sound, has set a priority to reduce the risks of shellfish growing area closures and adverse effects on human health. The Partnership's Action Agenda, the blueprint for action to restore and protect Puget Sound, has set a goal for a net increase of 10,800 harvestable shellfish acres by 2020.

In support of the Partnership's pursuit of this goal, the Northwest Fisheries Science Center is undertaking an economics research project to assess the behavior of individual shellfish harvesters in response to the opening and closing of individual shellfish beaches for human health reasons, and how these actions affect the value of shellfish harvesting. The Puget Sound Recreational Shellfish Harvesting Project (PSRSHP) will provide critical economic data related to recreational shellfish harvesting. More specifically, the PSRSHP will collect data needed to assess (1) the socioeconomic characteristics of recreational shellfish harvesting participants; (2) the economic value of access to Puget Sound beaches for recreational shellfish harvesting through statistical estimation of models; and (3) the potential changes in these values stemming from possible changes in management policies related to human health that affect the status of particular shellfish harvesting areas.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 3, 2012.
Gwellnar Banks,
Management Analyst, Office of the Chief Information Officer.

[FR Doc. 2012-24784 Filed 10-5-12; 8:45 am]

BILLING CODE 3510-22-P